NATIONAL INDIAN GAMING COMMISSION

25 CFR Part 580

[RIN 3141-AA04]

Environment, Public Health and Safety

AGENCY: National Indian Gaming Commission.

ACTION: Proposed rule: Notice of extension of time.

SUMMARY: On July 24, 2000, the National Indian Gaming Commission (Commission) issued a Proposed Rule (65 FR 45558, July 24, 2000) promulgating draft regulations to provide for adequate protection of the environment, public health and safety under the Indian Gaming Regulatory Act (Act). The date for filing comments is being extended.

DATES: Comments shall be filed on or before January 19, 2001.

ADDRESSES: Comments may be mailed to: Environment, Public Health and Safety Comments, National Indian Gaming Commission, 1441 L Street, N.W., Suite 9100, Washington, D.C. 20005, delivered to that address between 8:30 a.m. and 5:30 p.m., Monday through Friday, or faxed to 202/632-7066 (this is not a toll-free number). Comments received may be inspected between 9:00 a.m. and noon, and between 2:00 p.m. and 5:00 p.m., Monday through Friday.

FOR FURTHER INFORMATION CONTACT: Christine Nagle at 202/632-7003; fax 202/632-7066 (these are not toll-free numbers).

SUPPLEMENTARY INFORMATION: The Indian Gaming Regulatory Act (IGRA, or the Act), enacted on October 17, 1988, established the National Indian Gaming Commission (Commission). Under the Act, the Commission is charged with ensuring that tribal gaming facilities are constructed, maintained and operated in a manner, which adequately protects the environment and the public health and safety. The proposed regulations establish a process for carrying out this Commission responsibility. The Commissioners have been requested to allow additional time for preparation of comments on the proposed regulations. The Commission has determined that these regulations are of such significance that interested parties should be given additional time to determine and present their views.

Montie R. Deer,
Chairman, National Indian Gaming Commission.

[FR Doc. 00-30851 Filed 12-4-00; 8:45 am]

BILLING CODE 7565-01-P